ENVIRONMENTAL PROTECTION AGENCY

[EPA-HQ-OPP-2022-0544; FRL-9988-01-OCSPP]

Pesticide Registration Maintenance Fee: Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants through 2022 Pesticide Registration Maintenance Fee responses to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before September 12, 2022.

ADDRESSES: Submit your comments, identified by docket identification (ID) number EPA-HQ-OPP-2022-0544, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

Submit written withdrawal request by mail to: Registration Division (7504M), Office of Pesticide Programs, Environmental Protection Agency, 1200 Pennsylvania Ave. NW, Washington, DC 20460-0001. ATTN: Brenda Minnema.

FOR FURTHER INFORMATION CONTACT: Brenda Minnema, Registration Division (7504M), Office of Pesticide Programs, Environmental Protection Agency, 1200 Pennsylvania Ave. NW, Washington, DC 20460-0001; telephone number: (202) 566-2840; email address: minnema.brenda@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from registrants to cancel 149 pesticide products registered under FIFRA section 3 (7 U.S.C. 136a) or section 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all the affected registrations.

Table 1—Registrations With Pending Requests for Cancellation
Registration No. | Company No. | Product name | Active ingredient
100-1230 | 100 | Lambda-Cyhalothrin 5 CS Manufacturing Use Product | lambda-Cyhalothrin.
100-1238 | 100 | Scimitar GR Insecticide | lambda-Cyhalothrin.
100-1239 | 100 | Lambda-CY 0.045% H&G Granule Insecticide | lambda-Cyhalothrin.
100-1273 | 100 | A14796 Insecticide | lambda-Cyhalothrin.
100-1274 | 100 | A14797 Insecticide | lambda-Cyhalothrin.
100-1279 | 100 | REVUS OPTI | Chlorothalonil; Mandipropamide Technical.
100-1304 | 100 | Thiamethoxam 0.20/Lambda-Cyhalothrin 0.04 L&G GR | Thiamethoxam; lambda-Cyhalothrin.
100-1334 | 100 | Thiamethoxam 0.40/Lambda-cyhalothrin 0.16 ME Concentrate | Thiamethoxam; lambda-Cyhalothrin.
100-1336 | 100 | Thiamethoxam 0.010/Lambda-cyhalothrin 0.004 ME RTU | Thiamethoxam; lambda-Cyhalothrin.
100-1545 | 100 | Force 10CS Insecticide | Tefluthrin.
100-1546 | 100 | Force 15CS Insecticide | Tefluthrin.
100-1569 | 100 | Force CS MUP | Tefluthrin.
239-2657 | 239 | Ortho Groundclear Total Vegetation Killer | Glyphosate-isopropylammonium; Imazapyr, isopropylamine salt.
239-2686 | 239 | Ground Clear RTU | Glyphosate-isopropylammonium; Imazapyr, isopropylamine salt.
239-2735 | 239 | Groundclear Concentrate | Glyphosate-isopropylammonium; Imazapyr, isopropylamine salt.
239-2736 | 239 | Groundclear W RTU | Glyphosate-isopropylammonium; Imazapyr, isopropylamine salt.
241-331 | 241 | Pursuit Plus EC Herbicide | Imazethapyr; Pendimethalin.
241-404 | 241 | Standout Herbicide | Glyphosate-isopropylammonium; Imazethapyr.
241-414 | 241 | Onestep Herbicide | Glyphosate-isopropylammonium; Imazapyr, isopropylamine salt.
352-556 | 352 | Dupont Matrix Herbicide | Rimsulfuron.
352-571 | 352 | Dupont Basis Herbicide | Rimsulfuron; Thifensulfuron.
352-589 | 352 | Dupont Canopy XL Herbicide | Chlorimuron; Sulfentrazone.
352-608 | 352 | Dupont Steadfast Herbicide | Nicosulfuron; Rimsulfuron.
352-649 | 352 | Dupont DPX-E9636 25DF Corn Herbicide | Rimsulfuron.
352-869 | 352 | Dupont Diligent Herbicide | Chlorimuron; Flumioxazin; Rimsulfuron.
432-1550 | 432 | Velpar ULW Herbicide | Hexazinone;.
499-502 | 499 | TC 241 | lambda-Cyhalothrin.
499-503 | 499 | TC 240 | lambda-Cyhalothrin.
524-657 | 524 | MON 88702 X MON 15985 X COT102 SI | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki delta endotoxin protein as produced by the Cry1A(c) gene and its controlling sequences; Bacillus thuringiensis mCry51Aa2 protein and the genetic material necessary for its production (vector PV-GHIR508523) in MON 88702 cotton.
2792-79 | 2792 | Trupick 0.7 | 1-Methylcyclopropene.
2792-83 | 2792 | Trupick 2.0 | 1-Methylcyclopropene.
3432-56 | 3432 | Scorch II | Lithium hypochlorite.
3432-64 | 3432 | Sildate | Nanosilver 004.
3432-71 | 3432 | Silspa Disinfectant | Nanosilver 004.
3862-104 | 3862 | Hospital Surface Disinfectant and Deodorizer | o-Phenylphenol (No Inert Use); 4-tert-Amylphenol.
3862-177 | 3862 | Tek-Trol Disinfectant Cleaner Concentrate | o-Phenylphenol (No Inert Use); 2-Benzyl-4-chlorophenol; 4-tert-Amylphenol.
3862-180 | 3862 | Pheno-Tek II | o-Phenylphenol (No Inert Use); 2-Benzyl-4-chlorophenol; 4-tert-Amylphenol.
4822-352 | 4822 | Raid Liquid Control Tip Ant and Roach Killer | Cyfluthrin.
4822-375 | 4822 | Raid Max Home Barrier Insecticide Concentrate | Cyfluthrin.
4822-376 | 4822 | Raid Powder Keg for Roaches | Cyfluthrin.
4822-383 | 4822 | Raid Fumigator G | Cyphenothrin.
4822-393 | 4822 | Raid Yard Guard Concentrate | Cyfluthrin.
4822-481 | 4822 | Raid Max BB | Cyfluthrin.
4822-492 | 4822 | Rysn Formula 1 Insecticide | Cyfluthrin.
4822-493 | 4822 | Rysn Formula 2 Insecticide | Cyfluthrin.
4822-494 | 4822 | Rysn Formula 3 Insecticide | Cyfluthrin.
4822-495 | 4822 | Rysn Formula 4 | Cyfluthrin.
4822-496 | 4822 | Rysn Formula 5 | Cyfluthrin.
4822-497 | 4822 | Rysn Formula 6 Insecticide | Cyfluthrin.
4822-581 | 4822 | RWH 34 | Cyfluthrin; Prallethrin.
4822-582 | 4822 | AK2C | Cyfluthrin; Piperonyl butoxide; Pyrethrins.
4822-598 | 4822 | Peduncle KMP | Esfenvalerate.
4822-600 | 4822 | New Orleans Aerosol | Cypermethrin; Imiprothrin.
5383-113 | 5383 | Polyphase CST-1 | Carbamic acid, butyl-, 3-iodo-2-propynyl ester.
7969-144 | 7969 | Frontier Herbicide | Dimethenamid.
7969-147 | 7969 | Frontier 6.0 Herbicide | Dimethenamid.
7969-254 | 7969 | BAS 756 00 H Herbicide | Glyphosate-isopropylammonium; Pendimethalin;.
7969-264 | 7969 | BAS 555 SL Fungicide | Metconazole.
7969-287 | 7969 | Triticonazole HL Fungicide Seed Treatment | Triticonazole.
7969-295 | 7969 | Charter F2 Fungicide Seed Treatment | Metalaxyl; Triticonazole.
7969-377 | 7969 | Diamir TTZ Fungicide Seed Treatment | Triticonazole.
7969-386 | 7969 | Charter Fungicide Seed Treatment | Triticonazole.
7969-387 | 7969 | Charter PB Fungicide Seed Treatment | Thiram; Triticonazole.
8033-1 | 8033 | Granular HI Chlon | Calcium hypochlorite.
8033-2 | 8033 | HI-CHLON Tablet | Calcium hypochlorite.
8033-7 | 8033 | HI-CHLON 65 EU | Calcium hypochlorite.
8033-20008 | 8033 | HI-CHLON 65 | Calcium hypochlorite.
8329-39 | 8329 | BTI Granules | Bacillus thuringiensis subspecies israelensis strain AM 65-52 solids, spores and insecticidal toxins.
9198-60 | 9198 | Easy Weeder Flower and Garden Weed Preventer | Trifluralin.
9198-175 | 9198 | Anderson's Turf Fertilizer Plus Southern Weedgrass Control | Pendimethalin.
9198-199 | 9198 | TGR Winter Overseeding Enhancer | Paclobutrazol.
9688-215 | 9688 | Chemsico Herbicide Granules DN | Dithiopyr.
9688-216 | 9688 | Chemsico Herbicide Granules DN2 | Dithiopyr.
9688-234 | 9688 | Pursell 3 Deep M & B Granular | Dithiopyr.
9688-267 | 9688 | Chemsico Herbicide Granules Formula D-20 | Dithiopyr.
10324-99 | 10324 | Maquat 10-PD | Alkyl* dimethyl benzyl ammonium chloride *(60%C14, 30%C16, 5%C18, 5%C12); Alkyl* dimethyl ethylbenzyl ammonium chloride *(68%C12, 32%C14).
10324-142 | 10324 | Maquat MQ2525M-14 | Alkyl* dimethyl benzyl ammonium chloride *(60%C14, 30%C16, 5%C18, 5%C12); Alkyl* dimethyl ethylbenzyl ammonium chloride *(68%C12, 32%C14).
33270-26 | 33270 | Simazine 90DF | Simazine.
33270-27 | 33270 | Simazine 4L | Simazine.
51036-312 | 51036 | Glyphosate 4 Herbicide | Glyphosate-isopropylammonium.
51036-331 | 51036 | GLY-FLO Plus | Glyphosate-isopropylammonium.
51036-332 | 51036 | GLY-FLO Aquatic | Glyphosate-isopropylammonium.
51036-333 | 51036 | GLY-FLO Reduced Tillage | Glyphosate-isopropylammonium.
51036-334 | 51036 | GLY-FLO Sugarcane | Glyphosate-isopropylammonium.
51036-336 | 51036 | GLY-FLO Forestry | Glyphosate-isopropylammonium.
51036-347 | 51036 | GLY-FLO 62% SC AG | Glyphosate-isopropylammonium.
91234-147 | 91234 | Glyphosate Plus | Glyphosate-isopropylammonium.
93930-5 | 93930 | Avalaire PPZ 41.8 EC | Propiconazole.
93930-11 | 93930 | Avalaire Diflu 2 L | Diflubenzuron.
AZ070002 | 524 | Bollgard II | Bacillus thuringiensis Cry2Ab protein and the genetic material necessary for its production (vector GHBK11) in cotton; Bacillus thuringiensis var. kurstaki delta endotoxin protein as produced by the Cry1A(c) gene and its controlling sequences.
AZ110001 | 12455 | Contrac All-Weather BLOX | Bromadiolone.
CA170003 | 5481 | K-Salt Fruit FIX 800 | Potassium 1-naphthaleneacetate.
CA170010 | 66222 | Nevado 4F | Iprodione.
CO050004 | 100 | Beacon | Primisulfuron-methyl.
CO180001 | 5481 | Parazone 3SL | Paraquat dichloride.
CO180002 | 5481 | Parazone 3SL | Paraquat dichloride.
FL030010 | 432 | Dupont Escort XP Herbicide | Metsulfuron.
FL040002 | 432 | Dupont Escort Herbicide | Metsulfuron.
GA130003 | 10163 | Malathion 8 | Malathion (No Inert Use).
GA130004 | 10163 | Malathion 8 | Malathion (No Inert Use).
HI060004 | 432 | Dupont Escort XP Herbicide | Metsulfuron.
HI140002 | 100 | Provaunt | Fenamiphos.
ID000009 | 5481 | Amvac AZA 3% EC | Azadirachtin.
ID070003 | 66222 | Diazinon AG600 | Diazinon.
ID130005 | 66222 | Fanfare 2 ES Insecticide/Miticide | Bifenthrin.
ID990007 | 100 | Beacon Herbicide | Primisulfuron-methyl.
ID990024 | 10163 | Imidan 70-WP Agricultural Insecticide | Phosmet.
IL060002 | 100 | Beacon | Primisulfuron-methyl.
IL150001 | 100 | Reflex Herbicide | Sodium salt of fomesafen.
IN110003 | 5481 | Dupont Assure II Herbicide | Quizalofop-p-ethyl.
KS030004 | 432 | Dupont Escort Herbicide | Metsulfuron.
KY140001 | 10163 | Malathion 8 | Malathion (No Inert Use).
LA131001 | 81880 | GWN-3061 | Halosulfuron-methyl.
LA170004 | 66222 | Fluensulfone 480EC | Fluensulfone.
ME140001 | 81880 | GWN-1715-0 | Halosulfuron-methyl.
ME160003 | 60063 | Echo ZN | Chlorothalonil.
ME161001 | 81880 | Sandea Herbicide | Halosulfuron-methyl.
MI170001 | 66222 | Fluensulfone 480EC | Fluensulfone.
MN040002 | 100 | Dual Magnum Herbicide | S-Metolachlor.
MN080006 | 100 | Dual Magnum | S-Metolachlor.
MN080010 | 81880 | Nexter | Pyridaben.
MN180004 | 100 | Beacon Herbicide | Primisulfuron-methyl.
MN200005 | 100 | Dual Magnum Herbicide | S-Metolachlor.
MN200006 | 100 | Reflex Herbicide | Sodium salt of fomesafen.
MO100005 | 67690 | Natrix | Copper carbonate, basic.
NE060002 | 100 | Reflex Herbicide | Sodium salt of fomesafen.
NJ080001 | 100 | Beacon | Primisulfuron-methyl.
NJ130010 | 10163 | Malathion 8 | Primisulfuron-methyl.
NM110002 | 524 | Bollgard II Cotton | Bacillus thuringiensis Cry2Ab protein and the genetic material necessary for its production (vector GHBK11) in cotton; Bacillus thuringiensis var. kurstaki delta endotoxin protein as produced by the Cry1A(c) gene and its controlling sequences.
NM170001 | 524 | COT102 X MON 15985 | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki strain HD73(Cry1AC (synpro)) insecticidal crystal protein and the genetic material necessary for its production in cotton.
NY080015 | 100 | Beacon | Primisulfuron-methyl.
OK190004 | 5481 | Parazone 3SL Herbicide | Paraquat dichloride.
OR110006 | 7969 | Finale Herbicide | Glufosinate.
PA070003 | 10163 | Nexter | Pyridaben.
PR150002 | 100 | Warrior II with Zeon Technology | lambda-Cyhalothrin.
SC100003 | 67690 | Natrix | Copper carbonate, basic.
TX070009 | 10163 | Nexter | Pyridaben.
TX120010 | 100 | Gramoxone SL 2.O | Paraquat dichloride.
TX120013 | 241 | Prowl H2O Herbicide | Pendimethalin.
TX170003 | 524 | COT102 X MON 15985 | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki strain HD73(Cry1AC (synpro)) insecticidal crystal protein and the genetic material necessary for its production in cotton.
TX170004 | 10163 | Treflan HFP | Trifluralin.
TX170005 | 10163 | Treflan TR-10 | Trifluralin.
UT180010 | 5481 | Parazone 3SL Herbicide | Paraquat dichloride.
WA010004 | 5481 | K-Salt Fruit FIX 200 | Potassium 1-naphthaleneacetate.
WA040022 | 10163 | Onager Miticide | Hexythiazox.
WA060019 | 7173 | Rozol Pellets | Chlorophacinone.
WA090017 | 81880 | GWN-1715 | Halosulfuron-methyl.
WA130004 | 10163 | Malathion 8 | Primisulfuron-methyl.
WA960002 | 100 | Beacon Herbicide | Primisulfuron-methyl.

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419.
239 | The Scotts Company, P.O. Box 190, Marysville, OH 43040.
241 | BASF Corporation, 26 Davis Drive, P.O. Box 13528, Research Triangle Park, NC 27709.
352 | Corteva Agrosciences LLC, 9330 Zionsville Road, Indianapolis, IN 46268.
432 | Bayer Environmental Science, 700 Chesterfield Parkway West, Chesterfield, MO 63017.
499 | BASF Corporation, 26 Davis Drive, P.O. Box 13528, Research Triangle Park, NC 27709.
524 | Bayer CropScience LP, 800 N Lindbergh Blvd., St. Louis, MO 63141.
2792 | Decco US Post-Harvest Inc., 1713 South California Avenue, Monrovia, CA 91016.
3432 | N. Jonas & Co., Inc., 4520 Adams Circle, P.O. Box 425, Bensalem, PA 19020.
3862 | ABC Compounding Co., Inc. P.O. Box 16247, Atlanta, GA 30321.
5383 | Troy Chemical Corp., c/o. Troy Corporation, 8 Vreeland Road, Florham Park, NJ 07932.
5481 | AMVAC Chemical Corporation, 4695 MacArthur Court, Suite 1200, Newport Beach, CA 92660.
7173 | Liphatech, Inc., 3600 W Elm Street, Milwaukee, WI 53209.
7969 | BASF Corporation, 26 Davis Drive, P.O. Box 13528, Research Triangle Park, NC 27709.
8033 | Nippon Soda Co., Ltd., 379 Thornall Street, 5th Floor, Edison, NJ 08837.
8329 | Clarke Mosquito Control Products, Inc., 675 Sidwell Court, St. Charles, IL 60174.
9198 | The Andersons, Inc., 1947 Briarfield Blvd, P.O. Box 119, Maumee, OH 43537.
9688 | Chemsico, A Division of United Industries Corp., P.O. Box 142642, St. Louis, MO 63114.
10163 | Gowan Company, 370 S Main Street, Yuma, AZ 85366.
10324 | Mason Chemical Company, 9075 Centre Pointe Drive, Suite 400, West Chester, OH 45069.
12455 | Bell Laboratories, Inc., 3699 Kinsman Blvd., Madison, WI 53704.
33270 | Winfield Solutions, LLC, P.O. Box 64589, St. Paul, MN 55164.
51036 | BASF Sparks LLC, P.O. Box 13528, Research Triangle Park, NC 27709.
60063 | SIPCAM Agro USA, Inc., 2525 Meridian Pkwy., Suite 350, Durham, NC 27713.
66222 | Makhteshim Agan of North America, Inc., D/B/A ADAMA, 3120 Highwoods Blvd., Suite 100, Raleigh, NC 27604.
67690 | SEPRO Corporation, 11550 N Meridian Street, Suite 600, Carmel, IN 46032.
81880 | Canyon Group LLC, 370 S Main Street, Yuma, AZ 85360.
91234 | Atticus, LLC, 5000 Centregreen Way, Suite 100, Cary, NC 27513.
93930. | Avalaire, LLC, 1204 Village Market Place, #173, Morrisville, NC 27560.

III. What is the Agency's authority for taking this action?

FIFRA section 6(f)(1) (7 U.S.C. 136d(f)(1)) provides that a registrant of a pesticide product may at any time request that any of its pesticide registrations be canceled. FIFRA further provides that, before acting on the request, EPA must publish a notice of receipt of any such request in the Federal Register. EPA will provide a 30-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2023, or the date of that the cancellation notice is published in the Federal Register, whichever is later. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: August 8, 2022.
Marietta Echeverria,
Acting Director, Registration Division, Office of Pesticide Programs.

[FR Doc. 2022-17310 Filed 8-11-22; 8:45 am]

BILLING CODE 6560-50-P